DEPARTMENT OF THE INTERIOR

National Park Service

National Register of Historic Places; Notification of Pending Nominations and Related Actions

Nominations for the following properties being considered for listing or related actions in the National Register were received by the National Park Service before February 12, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by March 25, 2005.

Carol D. Shull,
Keeper of the National Register of Historic Places.

GEORGIA

Carroll County

Williams Family Farm, 55 Goldworth Rd., Villa Rica, 05000193

INDIANA

Jackson County

Bell Ford Post Patented Diagonal “Combination Bridge”, IN 258 1.5 mi. W of IN 258 and Community Dr., Seymour, 05000194

Marion County

Hotel Barton, 501-509 N. Delaware St., Indianapolis, 05000197

Monroe County

Vinegar Hill Historic District, E. 1st St. from Woodlawn to Jordan and S. Sheridan to E. Maxwell, Bloomington, 05000195

Pike County

Patoka Bridges Historic District, Address Restricted, Oakland City, 05000198

Vanderburgh County

Sweeton, Charles, House, 8700 Old State Rd., Evansville, 05000196

IOWA

Scott County

United States Post Office and Court House, 131 E. 4th St., Davenport, 05000192

KANSAS

Anderson County

Kirk, Sennett and Bertha, House, 145 W. Fourth Ave., Garnett, 05000199

Bourbon County

First Congregational Church, 502 S. National Ave., Fort Scott, 05000200

Dickinson County

Versteeg—Swisher House, 506 S. Campbell, Abilene, 05000201

Shawnee County

Alt, Solomon A., House, 1335 SW College Ave., Topeka, 05000202

MISSOURI

Pike County

City Market, 125 S. Main St., Louisiana, 05000203

NEVADA

Pershing County

Dave Canyon, Se'aquada, Table Mountain, Address Restricted, Lovelock, 05000207

NEW MEXICO

Lincoln County

Paden's Drug Store, 1200-1208 E Ave., Carrizozo, 05000204

NEW YORK

Kings County

Pratt Institute Historic District, Roughly bounded by Hall St., Dekalb Ave., Willoughby St., and Emerson Pl., Brooklyn, 05000208

PENNSYLVANIA

Wayne County

O'Connor, J.S., American Rich Cut Glassware Factory, 120 Falls Ave., Hawley, 05000206

TENNESSEE

Putnam County

Cowen Farmstead, (Historic Family Farms in Middle Tennessee MPS) 2671 Little Indian Creek Rd., Buffalo Valley, 05000205

A request for REMOVAL has been made for the following resource:

INDIANA

St. Joseph County

Tivoli Theater 208 N. Main St., Mishawaka, 98000304

[FR Doc. 05-4641 Filed 3-9-05; 8:45 am]

BILLING CODE 4312-51-P